DEPARTMENT OF ENERGY

DOE Response to Recommendation 2002-2 of the Defense Nuclear Facilities Safety Board, Weapons Laboratory Support of the Defense Nuclear Complex

AGENCY: Department of Energy, DOE.

ACTION: Notice.

SUMMARY: The Defense Nuclear Facilities Safety Board Recommendation 2002-2, concerning weapons Laboratory support of the DOE nuclear complex at Department of Energy Defense Nuclear Facilities was published in the Federal Register on October 10, 2002 (67 FR 63081). On November 21, 2002 the Secretary requested a 45-Day Extension to respond. In accordance with section 315(b) of the Atomic Energy Act of 1954, as amended, 42 U.S.C. 2286d(b), the Secretary transmitted the following response to the Defense Nuclear Facilities Safety Board on January 8, 2003.

DATES: Comments, data, views, or arguments concerning the Secretary's response are due on or before February 7, 2003.

ADDRESSES: Send comments, data, views, or arguments concerning the Secretary's response to: Defense Nuclear Facilities Safety Board, 625 Indiana Avenue NW., Suite 700, Washington, DC 20004.

FOR FURTHER INFORMATION CONTACT: Ms. Karen L. Boardman, Director, Office of Complex Readiness, Albuquerque Operations Office, Pennsylvania & H Street, Kirtland Air Force Base, Albuquerque, NM 87116.

Issued in Washington, DC, on January 8, 2003.
Mark B. Whitaker, Jr.,
Departmental Representative to the Defense Nuclear Facilities Safety Board.

January 8, 2003.

The Honorable John T. Conway,

Chairman, Defense Nuclear Facilities Safety Board, 625 Indiana Avenue NW., Washington, DC 20004.

Dear Mr. Chairman: On October 3, 2002, the Defense Nuclear Facilities Safety Board (Board) issued recommendation 2002-2, Weapons Laboratory Support of the Defense Nuclear Complex. The Department agrees that providing the defense nuclear complex with appropriate support is an essential priority. We also recognize that “one-size-fits-all” organizational structures and systems are not appropriate for our weapons laboratories.

The Department accepts recommendation 2002-2 and will develop an implementation plan to accomplish the following:

• We will re-emphasize the policy that the nuclear weapons program is the top priority among all activities at the weapons laboratories.

• Each weapons laboratory will review its existing processes for assigning individuals as the senior point of contact for each weapons system and ensure that selection criteria, training and mentoring, and succession planning are in place. Personnel management is an internal process of the weapons laboratories and should not be prescribed by the Department. However, the Department will ensure that the end result is that senior technically competent individuals are assigned as the point of contact for each weapons system. A list of senior individuals assigned as the point of contact of each weapon system will be provided.

• Each weapons laboratory will review its existing management system and demonstrate that through the appropriate alignment of a combination of internal organizational structure, programs, and procedures that the roles and responsibilities of each weapons point of contact are clearly defined. The point of contact for each weapon will be empowered to direct appropriate resources to ensure the safety of operations in the nuclear weapons complex within his/her assigned weapon system or have direct access to the management authority to acquire the necessary support.

• The Department will establish and staff a Federal function at each site office managing a weapons laboratory contract to ensure that the laboratory support requirements related to safety of operations of the defense nuclear weapons complex are being tracked and met. For this function, the National Nuclear Security Administration reengineering will clarify the roles and responsibilities and the contractual lines of authority for providing direction and resolving competing requirements for resources.

I have designated Ms. Karen Boardman as the responsible manager for developing the Department's implementation plan for this recommendation. Ms. Boardman may be reached at (505) 845-6039.

Sincerely,

Signed by Secretary Spencer Abraham.

[FR Doc. 03-2165 Filed 1-29-03; 8:45 am]

BILLING CODE 6450-01-P